DEPARTMENT OF AGRICULTURE

Forest Service

Lake County Resource Advisory Committee (RAC); Meeting

AGENCY: Forest Service, USDA.

ACTION: Change in meeting date.

SUMMARY: The Lake County Resource Advisory Committee (RAC) will hold a meeting.

DATES: Date of the announcement in the Federal Register of Tuesday March 19, 2002 on page 12513 is changed from March 25, 2002 to April 25, 2002. No other changes are made. The meeting will be from 3:00 P.M. to 6:00 PM.

ADDRESSES: The meeting will be held at the Lake County Board of Supervisor's Chambers at 255 North Forbes Street, Lakeport.

FOR FURTHER INFORMATION CONTACT: Debbie McIntosh, Committee Coordinator, USDA, Mendocino National Forest, Upper Lake Ranger District, 10025 Elk Mountain Road, Upper Lake, CA 95485. (707) 275-2361; emaildmcintosh@fs.fed.us.

SUPPLEMENTARY INFORMATION: Agenda items to be covered include: (1) Review and approval of the minutes of the February meeting; (2) apply Criteria to submitted Proposals; (3) Select Projects that best meet the Evaluation Criteria; (4) Recommend Projects; and (5) Public Comment Period. The meeting is open to the public. Public input opportunity will be provided and individuals will have the opportunity to address the Committee at that time.

Dated: March 19, 2002.
Blaine P. Baker,
Designated Federal Officer.

[FR Doc. 02-7219 Filed 3-25-02; 8:45 am]

BILLING CODE 3410-11-M